DEPARTMENT OF ENERGY

Federal Energy Regulatory Commission

[Docket No. RP03-188-000]

East Tennessee Natural Gas Company; Notice of Tariff Filing

December 11, 2002.

Take notice that on December 5, 2002, East Tennessee Natural Gas Company (East Tennessee) tendered for filing as part of its FERC Gas Tariff, Second Revised Volume No. 1, the tariff sheets listed in Appendix A of the filing, to be effective January 6, 2003.

East Tennessee states that the purpose of this filing is to modify the East Tennessee Tariff to: (1) Delete all references to the Daily Delivery Service; (2) delete the provision related to an alternate Reservation Charge; (3) modify the two Forms of Service Agreement used for Points of Delivery to achieve consistency between the agreements; (4) reflect the reinstatement of the price ceiling for short-term capacity release transactions; (5) achieve consistency in terminology related to East Tennessee's liquefied natural gas storage service; (6) achieve consistency in terminology related to contractual quantities; (7) delete the Form of Release Request and Form of Bid; and (8) make miscellaneous non-substantive housekeeping changes to various sections of the East Tennessee Tariff.

East Tennessee states that copies of its filing have been mailed to all affected customers and interested state commissions.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. Comments, protests and interventions may be filed electronically via the Internet in lieu of paper. The Commission strongly encourages electronic filings. See 18 CFR 385.2001(a)(1)(iii) and the instructions on the Commission's Web site under the “e-Filing” link.

Linwood A. Watson, Jr.,
Deputy Secretary.

[FR Doc. 02-31734 Filed 12-17-02; 8:45 am]

BILLING CODE 6717-01-P